DEPARTMENT OF AGRICULTURE

Natural Resources Conservation Service

Supplemental Watershed Plan No. 1 East Fork of the Grand River Watershed and Environmental Assessment for East Fork of the Grand River Watershed Plan and Environmental Impact Statement (Approved 1996), Ringgold and Union Counties, IA, and Harrison and Worth Counties, MO

AGENCY: Natural Resources Conservation Service.

ACTION: Notice of finding of no significant impact.

SUMMARY: Pursuant to section 102(2)(c)of the National Environmental Policy Act of 1969; the Council on Environmental Quality Regulations (40 CFR part 1500); and the Natural Resources Conservation Service Regulations (7 CFR part 650); the Natural Resources Conservation Service, U.S. Department of Agriculture, gives notice than an environmental impact statement is not being prepared for the Supplemental Watershed Plan No. 1 for East Fork of the Grand River Watershed Plan and Environmental Impact Statement (Approved 1996), Ringgold and Union Counties, Iowa, and Harrison and Worth Counties, Missouri.

FOR FURTHER INFORMATION CONTACT: Richard Van Klaveren, State Conservationist, Natural Resources Conservation Service, 210 Walnut Street, 693 Federal Building, Des Moines, IA 50309-2180.

SUPPLEMENTARY INFORMATION: The environmental assessment of this federally assisted action indicates that the project will not cause significant impacts on the environment. As a result of these findings, Richard Van Klaveren, State Conservationist, has determined that the preparation and review of an environmental impact statement are not needed for this project.

This document sets forth a supplement to the East Fork of the Grand Watershed Plan-EIS that slightly relocates and enlarges multipurpose structure GB-3 from a permanent pool of 350 acres to 565 acres. The 565 acre site will be renamed Gooseberry Lake. The increase in size is to meet additional other agricultural water management and recreation needs.

Gooseberry Lake and its 6210 acre watershed are northeast of Mount Ayr and are located entirely in Ringgold County, Iowa.

The Notice of a Finding of No Significant Impact (FONSI) has been forwarded to the Environmental Protection Agency and to various Federal, State, and local agencies. A limited number of copies of the FONSI are available to fill single copy requests at the above address. The FONSI is also available at the Iowa NRCS Web site at http://www.ia.nrcs.usda.gov. A copy of the Supplemental Watershed Plan-Environmental Assessment may be obtained by contacting Richard Van Klaveren.

No administrative action will be taken until 30 days after the date of this publication in the Federal Register.

Dated: September 28, 2004.
Richard Van Klaveren,
State Conservationist.

Finding of No Significant Impact for the Supplemental Watershed Plan No. 1 East Fork of the Grand River Watershed and Environmental Assessment Ringgold County, Iowa

Introduction

The Supplemental Watershed Plan No. 1 East Fork of the Grand River Watershed and Environmental Assessment (EA) describes the recommended alternative which is a modification of the GB-3 multipurpose site that was part of the East Fork of the Grand River Watershed Plan and Environmental Impact Statement (EIS). The Supplemental Watershed Plan No. 1-EA compares the effects that will arise from the installation of Gooseberry Lake to those that would have occurred from the installation of the original GB-3 structure.

This modification of the GB-3 site is necessary to meet the Sponsors' request to increase the water supply and recreation resources from those originally planned for GB-3 lake site in order to satisfy increased demands for these resources from the public.

The East Fork of the Grand River Watershed Plan and EIS was approved in 1996 under the authority of the Watershed Protection and Flood Prevention Act of 1954 (Public Law No. 566, 83rd Congress).

This supplemental plan-EA is being planned and will be implemented under the same authority. It is being planned and is in compliance with all National Environmental Policy Act (NEPA) and the National Historic Preservation Act of 1966 as amended (NHPA) provisions. The policies and procedures of the Watershed Protection and Flood Prevention Act, Public Law 83-566 as amended (16 U.S.C. 1001 et seq.) are being utilized for the planning and implementation of this project.

An environmental evaluation was undertaken by the Natural Resources Conservation Service (NRCS) in conjunction with the development of this supplemental plan-EA. This evaluation was undertaken in consultation with local, State and Federal agencies as well as interested organizations and individuals. Copies of the supplemental plan-EA are available for public review from the following location: Natural Resources Conservation Service, 210 Walnut Street, 693 Federal Building, Des Moines, IA 50309-2180.

Recommended Action

Site GB-3 will be moved downstream and increased in size. This relocated structure site is renamed Gooseberry Lake. The Gooseberry Lake Association will acquire the 2,365 acres needed for Gooseberry Lake and surrounding area for public use as a fish and wildlife area. The Gooseberry Lake will have a permanent pool of 565 acres, 1,393 acres managed as wildlife habitat, and 182 acre county park. The dam and floodwater storage pool comprise the balance of the 2,365 project acres. Access roads, parking areas, boat ramps, wildlife plantings in the adjacent lands, fishing jetties, in-lake facilities, underwater fish structures, etc., will be installed by the Iowa Department of Natural Resources (IDNR) with their own funds. The Ringgold County Conservation Board (RCCB) will install the recreation facilities such as roads, campgrounds, cabins, restrooms, picnic areas, beach, parking lots, etc.

Effects of the Recommended Actions

There are no cultural resources in the area of potential effect. Construction of recreation facilities (i.e. access roads, cabins, boat ramps, etc.) will need further cultural resources survey. Construction discoveries will be handled in accordance with NRCS General Manual, Section 420, Part 401.

Construction of the dam and multipurpose pool inundates 24,000 feet (8 acres) of low quality ephemeral and intermittent warm water stream channel habitat. This conversion creates 565 acres of high quality warm water lacustrine habitat.

No jurisdictional wetlands were identified in either the planned multipurpose pool, flood pool, or at the structure site.

Ringgold County is within the summer range of the Indiana Bat (myotis sodalis). However, since less than five percent of the project area is in woodland, suitable habitat for this species does not occur at the project site. No other Federal or state listed T&E species are known to occur in the Gooseberry Lake project area, nor are there any areas of suitable habitat for those species listed for Ringgold County in this project area.

While 110.1 acres woody wildlife habitat with a value of 73.6 Habitat Units will be lost to the structure and pool, the installation of planned measures will produce 248 additional acres of woody wildlife habitat worth 110.8 Habitat Units. This will produce a net project gain of 147.9 acres and 37.8 habitat units.

Grassland wildlife habitat on 425 acres with a value of 117.7 Habitat Units will be lost due to the project. The installation of planned measures will produce 650 acres additional acres of grassland wildlife habitat worth 299 Habitat Units. This will produce a net project gain of 225 acres and 181.3 habitat units.

Installation of the project will convert 2,365 acres of cropland, hayland, and pasture to non-agricultural land uses. This includes 725 acres of prime farmland.

Alternative Actions

The only alternative action to the proposed action considered in the supplemental plan-EA would be to construct Site GB-3 approved in the original watershed plan-EIS. That alternative action was rejected by the Sponsors. The supplemental plan is the only alternative that meets the local Sponsors objectives and is acceptable to local residents. The plan is the National Economic Development (NED) plan.

Consultation and Public Participation

The Gooseberry Lake Agency has held more than 40 meetings beginning in 2000. All have been conducted in accordance with the Iowa Open Meetings Law. This means that the public has been notified of each meeting and allowed to attend and participate in each meeting. Typically, 10-25 members of the public attend these regular meetings; two to five request time on the agenda to speak. One or more members of the NRCS staff were at each of those meetings in order to answer questions and receive comments.

Ongoing public participation identified the need to include detailed information on recreation benefits and other direct costs related to lost farm income. This was done and was discussed in the supplemental plan-EA.

NRCS hosted a week long open house at Mount Ayr, Iowa in February 2004. Numerous displays and information related to the East Fork of the Grand Watershed and the proposed 565 acre Gooseberry Lake were available during the open house. NRCS staff answered questions from the over 80 public participants.

Seven Indian tribal contacts and one local historical society were notified of this intended action in accordance with 36CFR800. They were consulted about their knowledge of historical properties in the project area. No response was received from the tribes or the local historical society.

The draft supplemental plan was provided to local, state, and federal agencies and non-governmental organizations for a 45 day long interagency review beginning in March, 2004. Any private citizens who requested the document were also mailed copies and requested to comment during the interagency review comment period. Seventy-eight copies of the supplemental plan-EA were distributed to the above agencies and private citizens during the interagency comment period. The NRCS also posted the draft supplemental plan on its Iowa Web site, at http://www.ia.nrcs.usda.gov. News releases were issued to state and local media announcing its availability on the Web site and that hard copies could be obtained by contacting the NRCS-Iowa state office. Requests for review and input into the document were part of the news releases.

Significant comments were received from five private citizens, four government agencies, and one non-governmental organization. These comments were addressed in the final supplemental plan-EA.

Conclusion

The Environmental Assessment summarized above indicates that this Federal action will not cause significant impacts on the environment. Therefore, based on the above findings, I have determined that an environmental impact statement for the Supplemental Watershed Plan No. 1 East Fork of the Grand River Watershed is not required.

Dated: September 28, 2004.

Richard Van Klaveren,

State Conservationist.

[FR Doc. 04-22300 Filed 10-4-04; 8:45 am]

BILLING CODE 3410-16-P